DEPARTMENT OF COMMERCE

National Oceanic and Atmospheric Administration

RIN 0648-XE934

North Pacific Fishery Management Council; Public Meeting

AGENCY: National Marine Fisheries Service (NMFS), National Oceanic and Atmospheric Administration (NOAA), Commerce.

ACTION: Notice of a public meeting.

SUMMARY: The North Pacific Fishery Management Council (Council) Charter Implementation Committee will meet telephonically on October 24, 2016.

DATES: The meeting will be held on Monday, October 24, 2016, from 10 a.m. to 5 p.m.

ADDRESSES: The meeting will be held at the North Pacific Fishery Management Council, 605 W. 4th Ave., Suite 306, Anchorage, AK 99501-2252. Teleconference line is (907) 271-2896.

Council address: North Pacific Fishery Management Council, 605 W. 4th Ave., Suite 306, Anchorage, AK 99501-2252; telephone: (907) 271-2809.

FOR FURTHER INFORMATION CONTACT: Steve MacLean, Council staff; telephone: (907) 271-2809.

SUPPLEMENTARY INFORMATION:

Agenda

Monday, October 24, 2016

The agenda is to identify a range of potential management measures for the Area 2C and Area 3A charter halibut fisheries in 2017, using the management measures in place for 2016 as a baseline. For Area 2C, the baseline management measure is a daily limit of one fish less than or equal to 43 inches or greater than or equal to 80 inches in length. For Area 3A, the baseline management measure is an annual limit of four fish, a daily limit of two fish, one fish of any size, and a second fish which must be 28 inches or less in length and a Wednesday closure. Committee recommendations will be incorporated into an analysis for Council review in December 2016. The Council will recommend preferred management measures for consideration by the International Pacific Halibut Commission at its January 2017 meeting, for implementation in 2017.

The Agenda is subject to change, and the latest version will be posted at http://www.npfmc.org/

Special Accommodations

The meeting is physically accessible to people with disabilities. Requests for sign language interpretation or other auxiliary aids should be directed to Shannon Gleason at (907) 271-2809 at least 7 working days prior to the meeting date.

Dated: October 3, 2016.
Tracey L. Thompson,
Acting Deputy Director, Office of Sustainable Fisheries, National Marine Fisheries Service.

[FR Doc. 2016-24170 Filed 10-5-16; 8:45 am]

BILLING CODE 3510-22-P